OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: Individual authorities established under Schedule C between February 1, 2002, and February 28, 2002, appear in the listing below. Future notices will be published on the fourth Tuesday of each month, or as soon as possible thereafter. A consolidated listing of all authorities as of June 30 will also be published.

Schedule C

The following Schedule C authorities were established during February 2002:

Broadcasting Board of Governors

Senior Projects Officer to the Director, Voice of America. Effective February 21, 2002.

Senior Projects Officer to the Director, Voice of America. Effective February 21, 2002.

Commission on Civil Rights

Special Assistant to the Commissioner. Effective February 8, 2002.

Department of Agriculture

Confidential Assistant to the Administrator, Rural Utilities Service. Effective February 1, 2002.

Special Assistant to the Director, Office of Communications. Effective February 1, 2002.

Confidential Assistant to the Assistant Secretary for Congressional Relations. Effective February 8, 2002.

Confidential Assistant to the Assistant Secretary for Congressional Relations. Effective February 11, 2002.

Special Assistant to the Under Secretary for Farm and Foreign Agricultural Service. Effective February 25, 2002.

Confidential Assistant to the Administrator, Animal and Plant Health Inspection Service. Effective February 28, 2002.

Department of the Air Force (DOD)

Confidential Assistant to the Assistant Secretary (Financial Management Comptroller). Effective February 8, 2002.

Department of the Army (DOD)

Secretary (Office Automation) to the Under Secretary of the Army. Effective February 6, 2002.

Secretary (Office Automation) to the Assistant Secretary of the Army (Civil Works). Effective February 8, 2002.

Secretary (Office Automation) to the General Counsel of the Army. Effective February 8, 2002.

Special Assistant to the Secretary of the Army. Effective February 15, 2002.

Personal And Confidential Assistant to the Assistant Secretary of the Army (Financial Management and Comptroller). Effective February 22, 2002.

Special Assistant to the Assistant Secretary of the Army (Civil Works) for Congressional Affairs. Effective February 26, 2002.

Department of Commerce

Chief Information Officer to the Under Secretary of Technology. Effective February 4, 2002.

Deputy Director to the Director, Office of Public Affairs, International Trade Administration. Effective February 6, 2002.

Confidential Assistant to the Assistant Secretary for Export Administration. Effective February 6, 2002.

Confidential Assistant to the Deputy Assistant Secretary for Domestic Operations. Effective February 19, 2002.

Confidential Assistant to the Assistant Secretary and Director General of the U.S. and Foreign Commercial Service. Effective February 22, 2002.

Deputy Director to the Director, Office of the White House Liaison. Effective February 28, 2002.

Department of Defense

Electronic Commerce Specialist to the Deputy Assistant Secretary of Defense (Deputy Chief Information Officer). Effective February 1, 2002.

Defense Fellow to the Special Assistant to the Secretary of Defense for White House Liaison. Effective February 4, 2002.

Staff Assistant to the Deputy Assistant Secretary of Defense (Near East/South Asia). Effective February 4, 2002.

Defense Fellow to the Special Assistant to the Secretary of Defense (White House Liaison). Effective February 5, 2002.

Speech Writer to the Director, Directorate for Editorial Services. Effective February 5, 2002.

Public Affairs Specialist to the Assistant Secretary of Defense for Public Affairs. Effective February 6, 2002.

Special Assistant to the Principal Deputy Assistant Secretary of Defense (Legislative Affairs). Effective February 8, 2002.

Public Affairs Specialist to the Deputy Assistant Secretary of Defense (Public Affairs) for Issues and Strategy Management. Effective February 8, 2002.

Defense Fellow to the Special Assistant to the Secretary (White House Liaison). Effective February 11, 2002.

Defense Fellow to the Special Assistant to the Secretary of Defense (White House Liaison). Effective February 11, 2002.

Director, Communications Strategy to the Assistant Secretary of Defense for Public Affairs). Effective February 11, 2002.

Defense Fellow to the Special Assistant to the Secretary of Defense (White House Liaison). Effective February 11, 2002.

Defense Fellow to the Special Assistant to the Secretary of Defense (White House Liaison). Effective February 11, 2002.

Special Assistant to the Assistant Secretary of Defense (Legislative Affairs). Effective February 13, 2002.

Executive Assistant to the Special Assistant to the Secretary of Defense for White House Liaison. Effective February 13, 2002.

Special Assistant to the Principal Deputy Under Secretary of Defense (Policy). Effective February 19, 2002.

Defense Fellow to the Director, Administration and Management. Effective February 21, 2002.

Defense Fellow to the Director, Administration and Management. Effective February 21, 2002.

Writer-Editor to the Director, Strategic Communications. Effective February 21, 2002.

Confidential Assistant to the Assistant Secretary of Defense. Effective February 22, 2002.

Public Affairs Specialist to the Assistant Secretary of Defense for Public Affairs. Effective February 24, 2002.

Defense Fellow to the Special Assistant to the Secretary of Defense (White House Liaison). Effective February 25, 2002.

Department of Education

Special Assistant to the Deputy Assistant Secretary for Intergovernmental, Constituent Relations and Corporate Liaison. Effective February 1, 2002.

Special Assistant to the Assistant Secretary for Elementary and Secondary Education. Effective February 1, 2002.

Confidential Assistant to the Director, White House Initiative on Hispanic Education. Effective February 5, 2002.

Confidential Assistant to the Assistant Secretary for Postsecondary Education. Effective February 5, 2002.

Confidential Assistant to the Chief of Staff. Effective February 6, 2002.

Special Assistant to the Chief of Staff. Effective February 6, 2002.

Confidential Assistant to the Chief of Staff. Effective February 6, 2002.

Special Assistant to the Director, Office of Public Affairs. Effective February 11, 2002.

Confidential Assistant to the Assistant Secretary for Elementary and Secondary Education. Effective February 14, 2002.

Special Assistant to the Chief of Staff. Effective February 14, 2002.

Confidential Assistant to the Chief of Staff. Effective February 14, 2002.

Confidential Assistant to the Chief of Staff. Effective February 14, 2002.

Special Assistant to the Assistant Secretary for Postsecondary Education. Effective February 14, 2002.

Secretary's Regional Representative to the Deputy Assistant Secretary for Regional Services. Effective February 14, 2002.

Special Assistant to the Chief of Staff. Effective February 21, 2002.

Director, Office of Scheduling and Briefing to the Chief of Staff. Effective February 24, 2002.

Confidential Assistant to the Director, Office of Public Affairs. Effective February 25, 2002.

Special Assistant to the Chief of Staff. Effective February 27, 2002.

Special Assistant to the Assistant Secretary for Postsecondary Education. Effective February 28, 2002.

Secretary's Regional Representative, Region 7 to the Deputy Assistant Secretary for Regional Services. Effective February 28, 2002.

Department of Energy

Policy Advisor to the Secretary of Energy. Effective February 1, 2002.

Special Assistant to the Assistant Secretary for Policy and International Affairs. Effective February 4, 2002.

Trip Coordinator to the Deputy Director for Advance. Effective February 5, 2002.

Senior Policy Advisor for Middle East Affairs to the Assistant Secretary for Policy and International Affairs. Effective February 7, 2002.

Special Assistant to the Assistant Secretary for Fossil Energy. Effective February 8, 2002.

Special Assistant to the Secretary of Energy. Effective February 13, 2002.

Deputy Director to the Director, Office of Economic Impact and Diversity. Effective February 15, 2002.

Special Assistant to the Deputy Secretary of Energy. Effective February 25, 2002.

White House Liaison to the Secretary of Energy. Effective February 27, 2002.

Department of Health and Human Services

Deputy Director for Operations to the Director of Intergovernmental Affairs. Effective February 5, 2002.

Deputy Director of the Director of Scheduling. Effective February 11, 2002.

Special Assistant to the Secretary of Health and Human Services. Effective February 13, 2002.

Confidential Assistant to the Director of Scheduling. Effective February 25, 2002.

Director of Communications to the Deputy Assistant Secretary for Public Affairs (Policy and Strategy). Effective February 27, 2002.

Special Assistant to the Chief of Staff. Effective February 27, 2002.

Department of Housing and Urban Development

Staff Assistant to the Deputy Assistant Secretary for Public Affairs. Effective February 1, 2002.

Deputy Assistant Secretary for Special Needs to the Assistant Secretary for Community Planning and Development. Effective February 19, 2002.

Staff Assistant to the Assistant Deputy Secretary for Field Policy and Management. Effective February 20, 2002.

Special Assistant to the Deputy Secretary of Housing and Urban Development. Effective February 28, 2002.

Department of the Interior

Speechwriter to the Director of Communications. Effective February 15, 2002.

Associate Director to the Director, Office of Congressional and Legislative Affairs. Effective February 22, 2002.

Special Assistant to the Director, Minerals Management Service. Effective February 26, 2002.

Department of Justice

Attorney Advisor to the Attorney General. Effective February 4, 2002.

Attorney Advisor/Special Assistant to the Director, Office of Domestic Preparedness, Office of Justice Programs. Effective February 5, 2002.

Attorney Advisor to the Assistant Attorney General, Civil Division. Effective February 5, 2002.

Secretary (OA) to the United States Attorney, District of Maryland. Effective February 8, 2002. Deputy Assistant Attorney General to the Assistant Attorney General, Tax Division. Effective February 8, 2002.

Counsel to the Assistant Attorney General, Civil Division. Effective February 11, 2002.

Senior Advisor to the Director, Office of Public Affairs. Effective February 12, 2002.

Special Assistant to the Director, Office of Congressional and Public Relations. Effective February 14, 2002.

Secretary (OA) to the United States Attorney, Southern District of Alabama. Effective February 21, 2002.

Secretary (Office Automation) to the United States Attorney, District of New Mexico. Effective February 25, 2002.

Department of Labor

Senior Intergovernmental Liaison to the Assistant Secretary for Congressional and Intergovernmental Affairs. Effective February 4, 2002.

Speech Writer to the Assistant Secretary, Office of Public Affairs. Effective February 4, 2002.

Staff Assistant to the Deputy Secretary. Effective February 4, 2002.

Special Assistant to the Deputy Under Secretary for International Labor Affairs. Effective February 11, 2002.

Special Assistant to the Assistant Secretary for Employment and Training Administration. Effective February 13, 2002.

Special Assistant to the Director, Women's Bureau. Effective February 19, 2002.

Senior Intergovernmental Officer to the Assistant Secretary for Congressional and Intergovernmental Affairs. Effective February 20, 2002.

Staff Assistant to the Assistant Secretary for Policy. Effective February 21, 2002.

Special Assistant to the Assistant Secretary for Disability Employment Policy. Effective February 22, 2002.

Special Assistant to the Assistant Secretary for Public Affairs. Effective February 25, 2002.

Staff Assistant to the Assistant Secretary for Congressional and Intergovernmental Affairs. Effective February 27, 2002.

Special Assistant to the Assistant Secretary for Administration and Management. Effective February 28, 2002.

Department of the Navy (DOD)

Staff Assistant to the Secretary of the Navy. Effective February 12, 2002.

Department of State

Senior Advisor to the U.S. Permanent Representative to the Organization of American States. Effective February 4, 2002.

Senior Advisor to the Assistant Secretary for South Asian Affairs. Effective February 6, 2002.

Legislative Management Officer to the Assistant Secretary for Legislative Affairs. Effective February 8, 2002.

Protocol Officer (Ceremonials) to the Chief of Protocol. Effective February 22, 2002.

Public Affairs Specialist to the Assistant Secretary for Public Affairs. Effective February 26, 2002.

Staff Assistant to the Senior Advisor (White House Liaison). Effective February 26, 2002.

Special Assistant to the Secretary of State. Effective February 26, 2002.

Department of Transportation

Associate Director to the Assistant Secretary for Government Affairs. Effective February 5, 2002.

Special Assistant to the Assistant Secretary for Transportation Policy. Effective February 8, 2002.

Special Assistant to the Administrator, National Highway Traffic Safety Administration. Effective February 25, 2002.

Chief, Consumer Information Division to the Administrator, National Highway Traffic Safety Administration. Effective February 26, 2002.

Director, Office of Public and Consumer Affairs to the Administrator, National Highway Traffic Safety Administration. Effective February 26, 2002.

Department of the Treasury

Speechwriter to the Assistant Secretary for Public Affairs. Effective February 14, 2002.

Senior Advisor to the Assistant Secretary for Management and Chief Financial Officer. Effective February 25, 2002.

Department of Veterans Affairs

Director, Congressional Affairs to the Assistant Secretary for Congressional and Legislative Affairs. Effective February 8, 2002.

Environmental Protection Agency

Senior Advisor on Outreach to the Assistant Administrator for Solid Waste and Emergency Response. Effective February 11, 2002.

Associate Assistant Administrator to the Assistant Administrator for Office of Prevention, Pesticides and Toxic Substances. Effective February 11, 2002.

Special Assistant to the Director of Operations. Effective February 11, 2002.

Special Assistant for Communications to the Assistant Administrator, Office of Water. Effective February 11, 2002.

Public Affairs Specialist to the Associate Administrator. Effective February 14, 2002.

Export-Import Bank of the United States

Special Assistant to the Vice President for Public Affairs. Effective February 26, 2002.

Federal Emergency Management Agency

Deputy Chief of Staff to the Director. Effective February 8, 2002.

Staff Assistant to the General Counsel. Effective February 22, 2002.

Special Assistant to the Chief Information Officer to the Assistant Director, Information Technology Services Directorate. Effective February 27, 2002.

Federal Housing Finance Board

Special Assistant to the Chairman. Effective February 26, 2002.

National Transportation Safety Board

Senior Policy Advisor to the Chairman, National Transportation Safety Board. Effective February 25, 2002.

Office of Management and Budget

Counselor to the Controller, Office of Federal Financial Management. Effective February 4, 2002.

Confidential Assistant to the Deputy Director, Office of Management and Budget. Effective February 8, 2002.

Deputy Director to the Associate Director for Communications. Effective February 11, 2002.

Office of National Drug Control Policy

Associate Deputy Director to the Deputy Director, State and Local Affairs. Effective February 8, 2002.

Securities and Exchange Commission

Director of Communications to the Chairman. Effective February 8, 2002.

Senior Advisor for Legislative Affairs to the Director of Communications. Effective February 8, 2002.

Director of Public Affairs to the Director of Communications. Effective February 8, 2002.

Small Business Administration

Special Assistant to the Assistant Administrator for Congressional and Legislative Affairs. Effective February 4, 2002.

Special Assistant to the Chief Operating Officer. Effective February 20, 2002.

Senior Advisor to the Associate Deputy Administrator for Government Contracting and Business Development. Effective February 25, 2002.

Authority: 5 U.S.C. 3301 and 3302; E.O. 10577, 3 CFR 1954-1958 Comp., P. 218.

Office of Personnel Management.
Kay Coles James,
Director.

[FR Doc. 02-7021 Filed 3-22-02; 8:45 am]

BILLING CODE 6325-38-P